DEPARTMENT OF THE INTERIOR

Fish and Wildlife Service

50 CFR Part 32

Hunting and Fishing

CFR Correction

In Title 50 of the Code of Federal Regulations, Parts 18 to 199, revised as of October 1, 2009, on page 326, in § 32.35, in the entry for “Marais des Cygnes National Wildlife Refuge” , the heading and introductory text for paragraph A. is reinstated to read as follows:

§ 32.35 Kansas.

* * * * *

Marais des Cygnes National Wildlife Refuge

A. Migratory Game Bird Hunting. We allow hunting of goose, duck, coot, rail, snipe, woodcock, and mourning dove on designated areas of the refuge in accordance with State regulations subject to the following conditions:

* * * * *

[FR Doc. 2010-23774 Filed 9-21-10; 8:45 am]

BILLING CODE 1505-01-D